FEDERAL COMMUNICATIONS COMMISSION

Information Collection(s) Being Submitted for Review and Approval to the Office of Management and Budget (OMB)

AGENCY: Federal Communications Commission.

ACTION: Notice and request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: Whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before May 23, 2013. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov<mailto:Nicholas_A._Fraser@omb.eop.gov> and to Judith B. Herman, Federal Communications Commission, via the Internet at Judith-b.herman@fcc.gov. To submit your PRA comments by email send them to: PRA@fcc.gov<mailto:PRA@fcc.gov>.

FOR FURTHER INFORMATION CONTACT: Judith B. Herman, Office of Managing Director, FCC, at 202-418-0214.

SUPPLEMENTARY INFORMATION:

OMB Control Number: 3060-0496.

Title: ARMIS Operating Data Report.

Report No.: FCC Report 43-08.

Type of Review: Extension of a currently approved collection.

Respondents: Business or other for-profit.

Number of Respondents: 55 respondents; 55 responses.

Estimated Time per Response: 139 hours.

Frequency of Response: Annual reporting requirements.

Obligation to Respond: Mandatory. Statutory authority for this information collection is contained in 47 U.S.C. 11, 219(b) and 220 of the Communications Act of 1934, as amended.

Total Annual Burden: 7,645 hours.

Total Annual Cost: N/A.

Privacy Act Impact Assessment: N/A.

Nature and Extent of Confidentiality: In most cases, ARMIS reports do not require submission of any confidential or commercially-sensitive data. The areas in which detailed information is required are fully subject to regulation. If a respondent finds it necessary to submit a confidential or commercially-sensitive data request, 47 CFR 0.459 of the Commission's rules contains the procedures for requesting confidential treatment of data.

Needs and Uses: The Commission will submit this expiring information collection after this comment period to obtain the full, three year clearance from the Office of Management and Budget (OMB). The Commission is requesting approval for an extension (no change in the reporting requirement). There is no change to the Commission's previous burden estimates.

The ARMIS (Automated Reporting Management Information System) reporting requirements were established by the Commission in 1987 to facilitate the timely and efficient analysis of carrier operating costs and rates of return that provide an improved basis for audits and other oversight functions; and to enhance the Commission's ability to quantify the effects of alternative policy proposals. Additional ARMIS Reports were added in 1991 and 1992. Certain incumbent local exchange carriers (LECs) were required to submit the ARMIS Reports to the Commission annually on or before April 1. See Reporting Requirements of Certain Class A and Tier 1 Telephone Companies (Parts 31, 43, 67 and 69 of the Commission's rules) CC Docket No. 86-182, Order, 2 FCC Rcd 5770 (1987), modified on recon. 3 FCC Rcd 6375 (1988); see also 47 CFR Part 43, Sections 43.21.

The information contained in FCC Report 43-08 has helped the Commission fulfill its regulatory responsibilities. These data facilitate the timely and efficient analysis of revenue requirements, rates of return and price caps, provide an improved basis for auditing and other oversight functions, and enhance the Commission's ability to quantify the effects of policy proposals. Automated reporting of these data also augments the Commission's ability to process and analyze the extensive amount of data provided in the reports.

The Commission has granted AT&T, Verizon, legacy Qwest and other similarly-situated carriers forbearance from FCC Report 43-08, except for Table III, columns FC, FD, FE and FI, business line count information. See Petition of AT&T Inc. for Forbearance under 47 U.S.C. 160 from Enforcement of Certain of the Commission's Cost Assignment Rules, WC Docket Nos. 07-21, 05-342, Memorandum Opinion and Order, 23 FCC Rcd 7302 (2008) (AT&T Cost Assignment Forbearance Order), pet. for recon pending, pet.for review pending, NASUCA v. FCC, Case No. 08-1226 (D.C. Cir. Filed June 23, 2008); Service Quality, Customer Satisfaction, Infrastructure and Operating Data Gathering, WC Docket Nos. 08-190, 07-139, 07-204, 07-273, 07-21, Memorandum Opinion and Order and Notice of Proposed Rulemaking, 23 FCC Rcd 13747 (2008) (Verizon/Qwest Cost Assignment Forbearance Order), pet. for recon. pending, pet. for review pending, NASCUA v. FCC, Case No. 08-1353 (D.C. Cir. Filed Nov. 4, 2008).

Despite this forbearance, the Commission seeks OMB approval for the extension of this information collection for three years because petitions for reconsideration and review of those forbearance decisions are currently pending before the Commission and the U.S. Court of Appeals for the D.C. Circuit.

OMB Control Number: 3060-0816.

Title: Local Telephone Competition and Broadband Reporting (Report and Order, WC Docket No. 07-38, FCC 08-89; Order on Reconsideration, WC Docket No. 07-38 FCC 08-148).

Form Number: FCC Form 477.

Type of Review: Extension of a currently approved collection.

Respondents: Business or other for-profit entities, not-for-profit institutions and state, local or tribal government.

Number of Respondents: 1,980 respondents; 3,960 responses.

Estimated Time per Response: 296 hours.

Frequency of Response: Semi-annual reporting requirement.

Obligation to Respond: Mandatory. Statutory authority for this information collection is contained in 47 U.S.C. 4(i), 201, 218-220, 251-252, 271, 303(r), 332, and 403 of the Communications Act of 1934, as amended and section 706 of the Telecommunications Act of 1996, as amended, codified in section 1302 of the Broadband Data Improvement Act, 47 U.S.C. section 1302.

Total Annual Burden: 1,172,160 hours.

Total Annual Cost: N/A.

Privacy Impact Assessment: N/A.

Nature and Extent of Confidentiality: The Commission will continue to allow respondents to certify, on the first page of the each submission, that some data contained in that submission are privileged or confidential commercial or financial information and that disclosure of such information would likely cause substantial harm to the competitive position of the entity making the submission. If the Commission receives a request for, or proposes to disclose the information, the respondent would be required to show, pursuant to Commission rules for withholding from public inspection information submitted to the Commission, that the information in question is entitled to confidential treatment. We will retain our current policies and procedures regarding the confidential treatment of submitted FCC Form 477 data, including use of the aggregated, non-company specific data in our published reports.

Needs and Uses: The Commission will submit this expiring information collection after this comment period to obtain the full, three year clearance from the Office of Management and Budget (OMB). The Commission is requesting approval for an extension (no change in the reporting requirements. There are changes to the Commission's previous burden estimates. The Commission has increased the estimated average time per response for this information collection from 289 hours to 296 hours. The adjustment is also due to the increased number of respondents and their types of operations, (e.g., interconnected VoIP service providers with multi-state operations.) There is no change to the FCC Form 477.

FCC Form 477 gathers information on the development of local telephone competition including telephone services and interconnected Voice over Internet Protocol (VoIP) services, and on the deployment of broadband also known as advanced telecommunications services.

The data are necessary to evaluate the status of competition in local telecommunications services markets and to evaluate the status of broadband deployment. The information is used by the FCC staff to advice the Commission about the efficacy of Commission rules and policies adopted to implement the Telecommunications Act of 1996.

Federal Communications Commission.
Gloria J. Miles,
Federal Register Liaison, Office of the Secretary, Office of Managing Director.

[FR Doc. 2013-09444 Filed 4-22-13; 8:45 am]

BILLING CODE 6712-01-P